DEPARTMENT OF ENERGY

Federal Energy Regulatory Commission

[Docket No. RP99-190-002]

National Fuel Gas Distribution Corporation; Compliance Filing

August 18, 2000.

Take notice that on July 31, 2000, National Fuel Gas Distribution Corporation (Distribution) filed a report to comply with a Commission order issued March 30, 2000 in Docket No. RP99-190-001. The filing reports on Distribution's efforts to develop new facilities and services that do not require waiver of the Commission's shipper must have title policy.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-21599 Filed 8-23-00; 8:45 am]

BILLING CODE 6717-01-M